DEPARTMENT OF HEALTH AND HUMAN SERVICES

Centers for Disease Control and Prevention

Office for State, Tribal, Local and Territorial Support (OSTLTS)

In accordance with Presidential Executive Order No. 13175, November 6, 2000, and the Presidential Memorandum of November 5, 2009, and September 23, 2004, Consultation and Coordination with Indian Tribal Governments, CDC/Agency for Toxic Substances and Disease Registry (ATSDR), announces the following meeting and Tribal Consultation Session:

Name: CDC/ATSDR Tribal Advisory Committee (TAC) Meeting and 17th Biannual Tribal Consultation Session.

Dates And Times:

August 8, 2017

• 8:00-9:00 a.m., CDT—Tribal Caucus (Open only to elected tribal leaders and by invitation)

• 9:00 a.m.-5:00 p.m., CDT—TAC Meeting (Open to the public)

August 9, 2017

• 8:00-9:00 a.m., EDT—Tribal Caucus (Open only to elected tribal leaders and by invitation)

• 9:00 a.m.-3:00 p.m., CDT—TAC Meeting (Open to the public)

• 3:00-5:00 p.m., CDT—Tribal Consultation Session (Open to the public).

Please note that the TAC reserves the right to call a tribal caucus at any time during the public portions of the TAC meeting, and those who are not elected tribal leaders will be asked to step out of the meeting room during any ad hoc caucus periods.

Place: The CDC/ATSDR TAC Meeting and Biannual Tribal Consultation Session will be held at the Artesian Hotel, 1001 W. 1st Street, Sulphur, OK 73086.

Status: The meeting and consultation session are in-person only and open to the public except during tribal caucus as described in the time and date section. Attendees must pre-register for the TAC meeting and/or Tribal Consultation Session by 5:00 p.m. (EDT) on Friday, July 7, 2017, at the following link: www.cdc.gov/tribal/meetings.html.

Purpose: The purpose of the TAC and consultation meetings is to advance CDC/ATSDR support for and collaboration with American Indian and Alaska Native (AI/AN) tribes and to improve the health of AI/AN tribes by pursuing goals that include assisting in eliminating the health disparities faced by AI/AN tribes; ensuring that access to critical health and human services and public health services is maximized to advance or enhance the social, physical, and economic status of AI/ANs; and promoting health equity for all Indian people and communities. To advance these goals, CDC/ATSDR conducts government-to-government consultations with elected tribal officials or their authorized representatives. Consultation is an enhanced form of communication that emphasizes trust, respect, and shared responsibility. It is an open and free exchange of information and opinion among parties that leads to mutual understanding.

Matters for Discussion: This TAC Meeting and Biannual Tribal Consultation Session will provide opportunities for tribal leaders to speak openly about the public health issues affecting their tribes. These meetings will include discussions about tribal priorities for the CDC/ATSDR, public health capacity in Indian Country, AI/AN public health concerns, budget and funding opportunities, and programmatic highlights, among other topics. The discussion topics are subject to revision as priorities change.

Tribes also will have an opportunity to present testimony about tribal health issues during the Tribal Consultation Session. All tribal leaders are encouraged to submit written testimony by 5:00 p.m. (EDT) Friday, July 7, 2017, to Captain Carmen Clelland, Associate Director for the Tribal Support Unit, OSTLTS, via mail to 4770 Buford Highway NE., MS E-70, Atlanta, GA 30341-3717, or email to TribalSupport@cdc.gov. Tribal leaders can find guidance to assist in developing tribal testimony for CDC/ATSDR at www.cdc.gov/tribal/consultation/index.html.

Based on the number of tribal leaders giving testimony and the time available, it may be necessary to limit the time for each presenter. However, all submitted and written testimony will be entered in to the record.

Information about the TAC, CDC/ATSDR's Tribal Consultation Policy, and previous meetings can be found at www.cdc.gov/tribal.

Contact person for more information: Captain Carmen Clelland, Associate Director, Tribal Support Unit, at cclelland@cdc.gov or 404.498.2205.

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2017-11613 Filed 6-5-17; 8:45 am]

BILLING CODE 4163-18-P